DEPARTMENT OF COMMERCE

National Oceanic and Atmospheric Administration

Evaluation of Coastal Zone Management Programs

AGENCY: Office of Ocean and Coastal Resource Management, National Ocean Service, National Oceanic and Atmospheric Administration (NOAA), DOC.

ACTION: Notice of intent to evaluate.

SUMMARY: The NOAA Office of Ocean and Coastal Resource Management (OCRM) announces its intent to evaluate the performance of the Michigan Coastal Management Program and the Alaska Coastal Management Program.

These Coastal Zone Management Program evaluations will be conducted pursuant to section 312 of the Coastal Zone Management Act of 1972 (CZMA), as amended and regulations at 15 CFR part 923, subpart L.

The CZMA requires continuing review of the performance of states with respect to coastal program implementation. Evaluation of Coastal Zone Management Program requires findings concerning the extent to which a state has met the national objectives, adhered to its Coastal Management Program document approved by the Secretary of Commerce, and adhered to the terms of financial assistance awards funded under the CZMA.

The evaluations will include a site visit, consideration of public comments, and consultations with interested Federal, state, and local agencies and members of the public. Public meetings will be held as part of the site visits.

Notice is hereby given of the dates of the site visit for these evaluations, and the date, local time, and location of the public meeting during the site visit.

The Michigan Coastal Management Program evaluation site visit will be held September 9-13, 2002. One public meeting will be held during the week. The public meeting will be on Monday, September 9, 2002 from 3:30 to 5 p.m., at the Michigan Library and Historical Center, Lake Superior Room, 1st Floor, 717 West Allegan, Lansing, Michigan.

The Alaska Coastal Management Program evaluation site visit will be from September 9-16, 2002. One public meeting will beheld during the week. The public meeting will be a coast-wide public meeting held Thursday, September 12, 2002 from 7 to 9:30 p.m., via teleconference on the Alaska Legislative Teleconference Network. OCRM Evaluation staff will be at the Anchorage Legislative Information Office, at 716 W 4th Avenue, Suite 200, Anchorage. Teleconference connections will be provided to Legislative Information Offices in: Ketchikan, Sitka, Juneau, Cordova, Valdez, Homer, Kenai, Kodiak, Dillingham, Bethel, Nome, Kotzebue, and Barrow. Written or oral comments will be accepted, and a person does not need to attend the teleconference to submit written comments.

Copies of Michigan's and Alaska's most recent performance reports, as well as OCRM's notification and supplemental request letters to the States, are available upon request form OCRM. Written comments from interested parties regarding these Programs are encouraged and will be accepted until 15 days after the public meeting. Please direct written comments to Douglas Brown, Deputy Director, Office of Ocean and Coastal Resource Management, NOS/NOAA, 1305 East-West Highway, 120th floor, Silver Spring, Maryland 20910. When each evaluation is completed, OCRM will place a notice in the Federal Register announcing the availability of the Final Evaluation Findings.

FOR FURTHER INFORMATION CONTACT: Douglas Brown, Deputy Director, Office of Ocean and Coastal Resource Management, NOS/NOAA, 1305 East-West Highway, Silver Spring, Maryland 20910, (301) 713-3155, Extension 215.

(Federal Domestic Assistance Catalog 11.419 Coastal Zone Management Program Administration.)
Dated: June 28, 2002.
Jamison S. Hawkins,
Deputy Assistant Administrator for Ocean Services and Coastal Zone Management.

[FR Doc. 02-16981 Filed 7-8-02; 8:45 am]

BILLING CODE 3510-08-M